FEDERAL COMMUNICATIONS COMMISSION

Guidelines for Ensuring and Maximizing the Quality, Objectivity, Utility and Integrity of Disseminated Information

AGENCY: Federal Communications Commission.

ACTION: Notice; solicitation of comments.

SUMMARY: The Federal Communications Commission (Commission) has made available its Draft Information Quality Guidelines pursuant to the requirements of the Office of Management and Budget's (OMB's) Guidelines for Ensuring and Maximizing the Quality, Objectivity, Utility and Integrity of Information Disseminated by Federal Agencies, 67 FR 8452, February 22, 2002.

DATES: The Commission must receive written comments on or before June 28, 2002.

ADDRESSES: Comments must be written and should be addressed to Dr. Karen Wheeless, Data Quality Guideline Comments, Room 1-A807, Office of Managing Director, Federal Communications Commission, 445 12th Street, SW., Washington, DC 20554 or to kwheeles@fcc.gov.

FOR FURTHER INFORMATION CONTACT: Dr. Karen Wheeless, Office of Managing Director, 202-418-2910, or by e-mail to kwheeles@fcc.gov.

SUPPLEMENTARY INFORMATION: Section 515 of the Treasury and General Government Appropriations Act for Fiscal Year 2001 (Public Law 106-554) directs OMB to issue government-wide guidelines that “provide policy and procedural guidance to Federal agencies for ensuring and maximizing the quality, objectivity, utility and integrity of information (including statistical information) disseminated by Federal agencies.” The OMB guidelines require each agency to prepare a draft report providing the agency's information quality guidelines. Each agency further is required to publish a notice of availability of this draft report in the Federal Register and to post this report on its Web site by May 1, 2002, to provide an opportunity for public comment. The Commission will post its draft Information Quality Guidelines on its Web site at (www.fcc.gov/omd/dataquality) and encourages public comment on the report.

Federal Communications Commission.
Marlene H. Dortch,
Secretary.

[FR Doc. 02-10585 Filed 4-30-02; 8:45 am]

BILLING CODE 6712-01-P